DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Albany Port Railroad Corporation

[Waiver Petition Docket Number FRA-2010-0164]

The Albany Port Railroad (APRR) and the United Transportation Union (UTU) (together referred to as “Petitioners”) jointly seek a waiver from compliance of a certain provision of the Federal Hours of Service Laws (49 U.S.C. Chapter 211; HSL). Specifically, APRR and UTU request relief from 49 U.S.C. 21103(a)(4), which states that a train employee may not be required, or allowed to remain, or go on duty after that employee has initiated an on-duty period each day for 6 consecutive days unless that employee has had at least 48 consecutive hours off-duty at the employee's home terminal. In support of the request for relief, the petitioners explain that UTU is the sole representing authority for all train employees on APRR.

Further, the petitioner's explain that APRR currently has four train employees of which three work a single regular assignment Monday through Friday, beginning at 6:00 a.m. and usually ending at 1:00 p.m. The remaining employee holds a relief position and works for the other three employees when they require a day off. The work is always performed within the confines of the Albany Port, which consists of 5 miles per hour yard tracks. The crew will occasionally work on Saturdays when a train is delivered and needs to be switched, thus the request for relief from 49 U.S.C. 21103(a)(4). On these occasions, when the crew is required to work Saturday, they usually receive at least 36 hours or more off prior to reporting for duty on Monday.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0164) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC on November 29, 2010.
Robert C. Lauby,
Deputy Associate Administrator for Regulatory and Legislative Operations.

[FR Doc. 2010-30308 Filed 12-2-10; 8:45 am]

BILLING CODE 4910-06-P